DEPARTMENT OF AGRICULTURE

Forest Service

Challis and Salmon-Cobalt Ranger Districts, Salmon-Challis National Forest; Idaho; Morgan Creek and Eddy Creek Grazing Allotments Environmental Impact Statement

AGENCY: Forest Service, USDA.

ACTION: Notice of intent to prepare an environmental impact statement.

SUMMARY: The Challis and Salmon-Cobalt Ranger Districts propose to update the livestock grazing plans for the Morgan Creek and Eddy Creek Cattle and Horse grazing allotments. The allotments are located 4 to 28 miles north to northwest of Challis, Idaho.

DATES: Comments concerning the scope of the analysis must be received by October 27, 2003. The draft environmental impact statement is expected February 2005 and the final environmental impact statement is expected June 2005.

ADDRESSES: Send written comments to Ken Rodgers, Environmental Coordinator, Challis Ranger District, ­H/C 63, Box 1669, Challis, Idaho 83226.

A public meeting will be conducted at the Challis Ranger District Office, Hwy 93 North, Challis, Idaho on October 8, 2003, starting at 6 p.m.

FOR FURTHER INFORMATION CONTACT: Ken Rodgers, Environmental Coordinator, Challis Ranger District, H/C 63, Box 1669, Challis, Idaho 83226, or e-mail krodgers@fs.fed.us.

SUPPLEMENTARY INFORMATION:

Purpose and Need for Action

This proposal, in part, is to comply with Public Law 104-19, section 504(a): establish and adhere to a schedule for the completion of National Environmental Policy Act (NEPA) of 1969 (42 U.S.C. 4321 et seq.) analysis and decision on all grazing allotments within the National Forest System unit for which NEPA is needed (Pub. L. 104-19, General Provision 1995). Upon completion of the NEPA analysis and decisions for the allotments, the terms and conditions of existing grazing permits will be modified, as necessary, to conform to such NEPA analysis. In addition, the purpose of the proposed action is to improve range condition and trend and achieve desired conditions within the project area through livestock grazing.

Proposed Action

The proposed action is to authorize continued livestock grazing, provide analysis and data to update allotment management plans (AMPs), and allow permitted livestock grazing that meets or moves existing resource conditions toward desired conditions on national forest grazing allotments while complying with applicable statutes. Adaptive management, which allows flexibility during the implementation of the grazing strategy, would allow managers to make adjustments and corrections to management based on monitoring.

Possible Alternatives

No Grazing and No Action alternatives will be analyzed to the proposed action during the NEPA process. The No Grazing alternative would eliminate domestic livestock grazing on allotments. The No Action alternative would allow continued livestock grazing as it is currently being managed. Other alternatives, arising from issues identified through scoping, could be analyzed as well.

Responsible Official

Forest Supervisor, Salmon-Challis National Forest, 50 Hwy 93 South, Salmon, ID 83467.

Nature of Decision To Be Made

The Forest Supervisor will decide whether to authorize continued livestock grazing on the allotments' suitable rangelands in accordance with the standards in the proposed action or as modified by additional mitigation measures and monitoring requirements.

Scoping Process

This analysis is for two grazing allotments. The decision will have limited environmental effects outside the allotment boundaries, and the economic impacts are localized. Scoping will include:

• Review scoping comments from previous efforts

• Publish notice in the Challis Messenger and Salmon Recorder-Herald, the newspapers of record, announcing the public meeting and requesting comments

• Mail scoping letters to interested public and grazing permittees describing the proposed action and preliminary issues

• Conduct public meeting in Challis, Idaho on October 8, 2003

• Notify consulting agencies and request comments

• Publish in the Quarterly Schedule of Proposed Actions (SOPA) notice and mail to interested individuals and groups, and put on the Forest's internet site

• Contact and consult with the Shoshone-Bannock Tribes

A public meeting is scheduled for October 8, 2003, at 6 p.m. at the Challis Ranger District Office, Hwy 93 North, Challis, Idaho.

Preliminary Issues

Concerns identified internally and from previous scoping include:

• Riparian and aquatic habitat; fisheries

• Terrestrial plants and animals

• Management Indicator Species; Threatened, Endangered and Sensitive Species

• Soil productivity and water quality

• Effects to other Forest users

• Economics

• Effects on vegetation structure and composition

• Tribal Treaty Rights

• Heritage Resources

Comment Requested

This notice of intent initiates the scoping process which guides the development of the environmental impact statement. Substantive comments and objections to the proposed action will be considered during this analysis.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, section 21.

Dated: September 17, 2003.
Richard E. Hafenfeld,
Acting Forest Supervisor.

[FR Doc. 03-24293 Filed 9-24-03; 8:45 am]

BILLING CODE 3410-11-P